SECURITIES AND EXCHANGE COMMISSION

[File No. 500-1]

In the Matter of Applied NeuroSolutions, Inc., Cowlitz Bancorporation, First Place Financial Corp., and Kedem Pharmaceuticals, Inc.; Order of Suspension of Trading

June 17, 2014.

It appears to the Securities and Exchange Commission that there is a lack of current and accurate information concerning the securities of Applied NeuroSolutions, Inc. because it has not filed any periodic reports since the period ended March 31, 2010.

It appears to the Securities and Exchange Commission that there is a lack of current and accurate information concerning the securities of Cowlitz Bancorporation because it has not filed any periodic reports since the period ended March 31, 2010.

It appears to the Securities and Exchange Commission that there is a lack of current and accurate information concerning the securities of First Place Financial Corp. because it has not filed any periodic reports since the period ended June 30, 2010.

It appears to the Securities and Exchange Commission that there is a lack of current and accurate information concerning the securities of Kedem Pharmaceuticals, Inc. because it failed to include the required audited financial statements for the fiscal year ended May 31, 2012 in its Form 10-K for the period ended May 31, 2012, and it failed to file any periodic reports since it filed a Form 10-Q for the period ended November 30, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 17, 2014, through 11:59 p.m. EDT on June 30, 2014.

By the Commission.
Jill M. Peterson,
Assistant Secretary.

[FR Doc. 2014-14438 Filed 6-17-14; 4:15 pm]

BILLING CODE 8011-01-P